DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revision and three-year extension to the Form OE-781R “Report of International Electrical Export/Import Data.”

DATES: Comments must be filed by January 30, 2009. If you anticipate difficulty in submitting comments within that period, contact the person listed below as soon as possible.

ADDRESSES: Send comments to Mr. Steve Mintz. To ensure receipt of the comments by the due date, submission by FAX (202-586-8008) or e-mail (steven.mintz@hq.doe.gov) is recommended. The mailing address is the Office of Electricity Delivery and Energy Reliability, Department of Energy (Mail Code OE-20), U.S. Department of Energy, 1000 Independence Avenue, SW., Washington, DC 20585. Alternatively, Mr. Mintz may be contacted by telephone at 202-586-9506.

FOR FURTHER INFORMATION CONTACT: Requests for additional information or copies of any forms and instructions (the proposed draft collection) should be directed to Mr. Steve Mintz at the address listed above.

SUPPLEMENTARY INFORMATION:

I. Background

II. Current Actions

III. Request for Comments

I. Background

The Federal Energy Administration Act of 1974 (15 U.S.C. 761 et seq. ) and the DOE Organization Act (42 U.S.C. 7101 et seq. ) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (44 U.S.C. 3501, et seq. ), provides the general public and other Federal agencies with opportunities to comment on collections of energy information conducted by or in conjunction with the EIA. Also, the EIA will later seek approval for this collection by the Office of Management and Budget (OMB) under Section 3507(a) of the Paperwork Reduction Act of 1995.

The DOE Office of Electricity Delivery and Energy Reliability, which currently has programmatic responsibility, oversees international electricity power flows for reliability and violations of permit standards. They also monitor the levels of electricity imports and exports and issue summary tabulations in a staff Annual Report. Monthly tabulations of these data may be used by the Energy Information Administration. The publications may include: Annual Energy Outlook, Annual Energy Review, Electric Power Annual, Electric Power Monthly, and Monthly Energy Review. This information will be kept in the public electronic files and will be available for public copying.

The existing survey was designed for an electric utility industry that was dominated by integrated utilities, operating narrowly within prescribed markets and individually holding complete information on their operations and finances. In that environment, utilities that held Presidential Permits and or Export Authorizations could provide relatively complete information on their activities. The utilities, before restructuring of the power industry, also controlled power lines that largely were dedicated to serving their own customers, so it was appropriate for regulatory concern about reliability of supply to focus on the capacities and uses of individual lines, not systems. That has all changed. The reasons include: the restructuring of the wholesale and transmission markets by the Federal Energy Regulatory Commission (FERC); the entry of a large number of independent marketers into those markets; and the regulatory requirement that entities in the electric power industry keep information on transmission operations separate from their information on marketing. All of that has placed limits on the usefulness of the existing form and collection format.

II. Current Actions

The following changes are being proposed:

The form would collect data on monthly activity, and respondents would file the form monthly using an internet-based electronic data collection and editing system. Monthly data would be filed within 30 days of the end of the reporting month, e.g. October data would be due not later than November 30. (The existing form collects monthly information annually on paper filings.)

The Form OE-781R would be retitled “Monthly Electricity Imports and Exports Report.”

A new category of respondents is being proposed to report on transmission system operations. That category would cover the independent system operators (ISOs) and regional transmission operators (RTOs). Since much of the physical information on cross-border power flows today is held by ISOs/RTOs and the transmission system managers in the federal power marketing administrations (PMA), they will likely be the principal respondents for questions on flows, capacities, and characteristics of transmission operations.

Purchasers and sellers (including the marketing entities in the PMAs) would respond to questions on the value of the imports and exports (costs and revenues).

The form would be restructured by disaggregating it into two parts and would separately query the U.S. transmission system operators and the U.S. purchasing and selling entities involved in cross-border trade. The separation of transmission and power marketing functions in the industry today was established by the FERC.

Transmission system operators would report the following: cross-border flows across major transmission interfaces (scheduled, actual, and inadvertent), regional sources and destinations of power, fuel sources of generation (including system-based transactions), the provision of ancillary services, transmission capacity and planned additions, and the characteristics of transmission operations.

Existing survey questions on the cost of imports and exports would be revised to reflect changes in industry structure concerning price setting. New questions would separately collect information on the value of imports and exports in different regional markets that rely on cost-of-service pricing and or market-based pricing. In addition questions covering the total cost of ancillary service along with a general identification of the type's ancillary services would be asked.

For each category of proposed respondents, the survey design would work to minimize respondent burden by focusing on information readily available to those entities.

III. Request for Comments

Prospective respondents and other interested parties should comment on the actions discussed in item II. The following guidelines are provided to assist in the preparation of comments.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average 2 hours per month for each respondent, and 1 hour per response for those reporting new proposed transmission line additions per year. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information to be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 3507(h)(1) of the Paperwork Reduction Act of 1995, Federal Energy Administration Act of 1974 (15 U.S.C. 761 et seq.), and the DOE Organization Act (42 U.S.C. 7101 et seq.).

Issued in Washington, DC, November 24, 2008.
Stephanie Brown,
Director, Statistics and Methods Group, Energy Information Administration.

[FR Doc. E8-28447 Filed 11-28-08; 8:45 am]

BILLING CODE 6450-01-P